DEPARTMENT OF HEALTH AND HUMAN SERVICES

Centers for Disease Control and Prevention

[30Day-25-0612]

Agency Forms Undergoing Paperwork Reduction Act Review

In accordance with the Paperwork Reduction Act of 1995, the Centers for Disease Control and Prevention (CDC) has submitted the information collection request titled “Well-Integrated Screening and Evaluation for Women Across the Nation” to the Office of Management and Budget (OMB) for review and approval. CDC previously published a “Proposed Data Collection Submitted for Public Comment and Recommendations” notice on October 25, 2024, to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility.

(b) Evaluate the accuracy of the agencies estimate of the burden of the proposed collection of information, including the validity of the methodology and assumptions used.

(c) Enhance the quality, utility, and clarity of the information to be collected.

(d) Minimize the burden of the collection of information on those who are to respond, including, through the use of appropriate automated, electronic, mechanical, or other technological collection techniques or other forms of information technology, e.g., permitting electronic submission of responses, and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Well-Integrated Screening and Evaluation for Women Across the Nation (OMB Control No. 0920-0612, Exp. 3/31/2025)—Reinstatement—National Center for Chronic Disease Prevention and Health Promotion (NCCDPHP), Centers for Disease Control and Prevention (CDC).

Background and Brief Description

The WISEWOMAN program sponsored by the CDC, provides services to low income, uninsured, or underinsured women aged 35-64. The WISEWOMAN program is designed to prevent, detect, and control hypertension and other CVD risk factors through healthy behavior support services which are tailored for individual and group behavior change. The WISEWOMAN program provides services to participants who are jointly enrolled in the National Breast and Cervical Cancer Early Detection Program (NBCCEDP), which is also administered by CDC.

The WISEWOMAN program is administered by state health departments and tribal programs. In 2023, a new five-year cooperative agreement was awarded under Funding Opportunity Announcement DP23-0003, subject to the availability of funds. CDC collects two types of information from WISEWOMAN awardees. The WISEWOMAN awardee submits an electronic data file to CDC twice per year. The Minimum Data Elements (MDE) file contains data using a unique identifier with client-level information about cardiovascular disease risk factors, types of healthy behavior support services for participants served by the program. The estimated burden per response for the MDE file is 25 hours. The Annual Progress Report provides a narrative summary of each awardee's objectives and the activities undertaken to meet program goals. The estimated burden per response is 16 hours.

WISEWOMAN Program is requesting three additional years to continue data collection as part of this Revision request. The 2024 OMB Directive 15 for a combined race and ethnicity question will replace the separate race and ethnicity minimum data elements. Two MDEs are being deleted and two MDEs are being added, and a response option is being added to one MDE. There are no changes to overall burden. CDC will continue to use the information collected from WISEWOMAN awardees to support program monitoring and improvement activities, program assessment, and evaluation of program outcomes. The overall program evaluation helps to demonstrate program accomplishments and strengthen the evidence for strategy implementation for improved engagement of underserved populations. It can also determine whether the identified strategies and associated activities can be implemented at various levels within a state or tribal organization. The data collection is designed to demonstrate how WISEWOMAN can obtain cardiovascular disease health outcome data on at-risk populations, promote public education about cardiovascular disease risk-factors, and improve the availability of healthy behavior support services for under-served participants.

Participation in this information collection is required as a condition of cooperative agreement funding. CDC requests approval for a total of 2,640 annualized burden hours. There are no costs to respondents other than their time.

Estimated Annualized Burden Hours
Type of respondents | Form name | Number of respondents | Number of responses per respondent | Average burden per response (in hours)
WISEWOMAN Awardees | Screening and Assessment and Lifestyle Program MDEs | 40 | 2 | 25
| Annual Progress Report | 40 | 1 | 16

Jeffrey M. Zirger,
Lead, Information Collection Review Office, Office of Public Health Ethics and Regulations, Office of Science, Centers for Disease Control and Prevention.

[FR Doc. 2025-10512 Filed 6-10-25; 8:45 am]

BILLING CODE 4163-18-P